DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on July 17, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On July 17, 2025, OFAC determined that that the property and interests in property subject to U.S. jurisdiction of the following persons are blocked under the relevant sanctions authorities listed below.

Individuals

1. GUERRERO FLORES, Hector Rusthenford (a.k.a. “NINO GUERRERO” (Latin: “NIÑO GUERRERO”)), Venezuela; DOB 30 May 1983; POB Maracay, Venezuela; nationality Venezuela; citizen Venezuela; Gender Male; Secondary sanctions risk: section 1(b) of Executive Order 13224, as amended by Executive Order 13886; Cedula No. V-17367457 (Venezuela) (individual) [SDGT] [TCO] (Linked To: TREN DE ARAGUA).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, TREN DE ARAGUA, a person whose property and interests in property are blocked pursuant to E.O. 13581, as amended.

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended) for being owned, controlled, or directed by, or having acted or purported to act for or on behalf of, directly or indirectly, TREN DE ARAGUA, a person whose property and interests in property are blocked pursuant to E.O. 13224, as amended.

2. RIOS GOMEZ, Wendy Marbelys, Venezuela; Colombia; DOB 21 Jan 1980; nationality Venezuela; Gender Female; Secondary sanctions risk: section 1(b) of Executive Order 13224, as amended by Executive Order 13886 (individual) [SDGT] [TCO] (Linked To: TREN DE ARAGUA).

Designated pursuant to section 1(a)(ii)(C) of E.O. 13581, as amended, for being owned or controlled by, or having acted or purported to act for or on behalf of, directly or indirectly, TREN DE ARAGUA, a person whose property and interests in property are blocked pursuant to E.O. 13581, as amended.

Designated pursuant to section 1(a)(iii)(A) of E.O. 13224, as amended, for being owned, controlled, or directed by, or having acted or purported to act for or on behalf of, directly or indirectly, TREN DE ARAGUA, a person whose property and interests in property are blocked pursuant to E.O. 13224, as amended.

3. SANTANA PENA, Josue Angel (Latin: SANTANA PEÑA, Josue Angel) (a.k.a. “SANTANITA”), Venezuela; DOB 26 Jun 1995; nationality Venezuela; Gender Male; Secondary sanctions risk: section 1(b) of Executive Order 13224, as amended by Executive Order 13886 (individual) [SDGT] [TCO] (Linked To: TREN DE ARAGUA).

Designated pursuant to section 1(a)(ii)(C) of E.O. 13581, as amended, for being owned or controlled by, or having acted or purported to act for or on behalf of, directly or indirectly, TREN DE ARAGUA, a person whose property and interests in property are blocked pursuant to E.O. 13581, as amended.

Designated pursuant to section 1(a)(iii)(A) of E.O. 13224, as amended, for being owned, controlled, or directed by, or having acted or purported to act for or on behalf of, directly or indirectly, TREN DE ARAGUA, a person whose property and interests in property are blocked pursuant to E.O. 13224, as amended.

4. CASTILLO RONDON, Felix Anner (a.k.a. “Arnel”; a.k.a. “Pure Arnel”), Peru; Venezuela; DOB 12 Jan 1984; nationality Venezuela; Gender Male; Secondary sanctions risk: section 1(b) of Executive Order 13224, as amended by Executive Order 13886; Cedula No. V-16692836 (Venezuela) (individual) [SDGT] [TCO] (Linked To: TREN DE ARAGUA).

Designated pursuant to section 1(a)(ii)(C) of E.O. 13581, as amended, for being owned or controlled by, or having acted or purported to act for or on behalf of, directly or indirectly, TREN DE ARAGUA, a person whose property and interests in property are blocked pursuant to E.O. 13581, as amended.

Designated pursuant to section 1(a)(iii)(A) of E.O. 13224, as amended, for being owned, controlled, or directed by, or having acted or purported to act for or on behalf of, directly or indirectly, TREN DE ARAGUA, a person whose property and interests in property are blocked pursuant to E.O. 13224, as amended.

5. PEREZ CASTILLO, Wilmer Jose (a.k.a. “Wilmer Guayabal”), Venezuela; DOB 19 Aug 1985; POB Venezuela; nationality Venezuela; Gender Male; Secondary sanctions risk: section 1(b) of Executive Order 13224, as amended by Executive Order 13886; Cedula No. V-17789572 (Venezuela) (individual) [SDGT] [TCO] (Linked To: TREN DE ARAGUA).

Designated pursuant to section 1(a)(ii)(C) of E.O. 13581, as amended, for being owned or controlled by, or having acted or purported to act for or on behalf of, directly or indirectly, TREN DE ARAGUA, a person whose property and interests in property are blocked pursuant to E.O. 13581, as amended.

Designated pursuant to section 1(a)(iii)(A) of E.O. 13224, as amended, for being owned, controlled, or directed by, or having acted or purported to act for or on behalf of, directly or indirectly, TREN DE ARAGUA, a person whose property and interests in property are blocked pursuant to E.O. 13224, as amended.

6. ROMERO, Yohan Jose (a.k.a. PETRICA, Johan), Venezuela; DOB 31 Oct 1977; POB Venezuela; nationality Venezuela; citizen Venezuela; Gender Male; Secondary sanctions risk: section 1(b) of Executive Order 13224, as amended by Executive Order 13886 (individual) [SDGT] [TCO] (Linked To: TREN DE ARAGUA).

Designated pursuant to section 1(a)(ii)(C) of E.O. 13581, as amended, for being owned or controlled by, or having acted or purported to act for or on behalf of, directly or indirectly, TREN DE ARAGUA, a person whose property and interests in property are blocked pursuant to E.O. 13581, as amended.

Designated pursuant to section 1(a)(iii)(A) of E.O. 13224, as amended, for being owned, controlled, or directed by, or having acted or purported to act for or on behalf of, directly or indirectly, TREN DE ARAGUA, a person whose property and interests in property are blocked pursuant to E.O. 13224, as amended.

Lawrence M. Scheinert,
Acting Deputy Director, Office of Foreign Assets Control.

[FR Doc. 2025-13645 Filed 7-18-25; 8:45 am]

BILLING CODE 4810-AL-P